DEPARTMENT OF TRANSPORTATION

Federal Aviation Administration

[Summary Notice No. 2022-2089]

Petition for Exemption; Summary of Petition Received; Alitalia Societa Aerea Italiana

Correction

In notice document 2021-19543 beginning on page 50754 in the issue of Friday, September 10, 2021, make the following change:

On page 50755, in the first column, in the thirteenth line, “September 10, 2021” should read “September 30, 2021”.

[FR Doc. C1-2021-19543 Filed 9-23-21; 8:45 am]

BILLING CODE 0099-10-D